DEPARTMENT OF DEFENSE

Office of the Secretary

[Transmittal No. 23-86]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-86, Policy Justification, and Sensitivity of Technology.

Dated: December 10, 2024.
Aaron T. Siegel,
Alternate OSD Federal Register Liaison Officer, Department of Defense.

BILLING CODE 6001-FR-P

BILLING CODE 6001-FR-C

Transmittal No. 23-86

Notice of Proposed Issuance of Letter of Offer Pursuant to Section 36(b)(1) of the Arms Export Control Act, as amended

(i) Prospective Purchaser: Government of Poland

(ii) Total Estimated Value:

Major Defense Equipment * | $ 0
Other | $255 million
TOTAL | $255 million

Funding Source: National Funds

(iii) Description and Quantity or Quantities of Articles or Services under Consideration for Purchase:

Major Defense Equipment (MDE):

None

Non-MDE:

Communications equipment, including AN/PRC-117G, AN/PRC-152A, AN/PRC-158, AN/PRC-160, AN/PRC-163, and AN/PRC-167 radios; Global Positioning System (GPS) receivers enabled by Selective Availability Anti-Spoofing Module (SAASM) or M-Code; support equipment; spare parts; technical manuals and publications; new equipment training; U.S. Government and contractor technical engineering, logistics, and personnel services; and other related elements of logistics and program support.

(iv) Military Department: Army (PL-B-UEP)

(v) Prior Related Cases, if any: PL-B-UAZ, PL-B-UBM, PL-B-UBN, PL-B-UBZ, PL-B-UCA, PL-B-UCF, PL-B-UCI, PL-B-UCN, PL-B-UCR, PL-B-UCT, PL-B-UCV, PL-B-UDA, PL-B-UDC, PL-B-UDG, PL-B-UDH, PL-B-UDI, PL-B-UDK, PL-B-UDM, PL-B-UDO

(vi) Sales Commission, Fee, etc., Paid, Offered, or Agreed to be Paid: None

(vii) Sensitivity of Technology Contained in the Defense Article or Defense Services Proposed to be Sold: See Attached Annex

(viii) Date Report Delivered to Congress: December 13, 2023

* As defined in Section 47(6) of the Arms Export Control Act.

POLICY JUSTIFICATION

Poland—Communications Equipment

The Government of Poland has requested to buy communications equipment, including AN/PRC-117G, AN/PRC-152A, AN/PRC-158, AN/PRC-160, AN/PRC-163, and AN/PRC-167 radios; Global Positioning System (GPS) receivers enabled by Selective Availability Anti-Spoofing Module (SAASM) or M-Code; support equipment; spare parts; technical manuals and publications; new equipment training; U.S. Government and contractor technical engineering, logistics, and personnel services; and other related elements of logistics and program support. The estimated total program cost is $255 million.

This proposed sale will support the foreign policy goals and national security objectives of the United States by improving the security of a North Atlantic Treaty Organization (NATO) Ally that is a force for political stability and economic progress in Europe.

The proposed sale will improve Poland's communications capability and contribute to its military goal of updating capability while further enhancing interoperability with the United States and other allies. Poland will have no difficulty absorbing this equipment into its armed forces.

The proposed sale of this equipment and support will not alter the basic military balance in the region.

The principal contractor will L3Harris Technologies, Inc., Melbourne, FL. There are no known offset agreements proposed in connection with this potential sale.

Implementation of this proposed sale will require temporary duty travel of up to five (5) U.S. Government and/or contractor representatives to travel to Poland for a short period to conduct training.

There will be no adverse impact on U.S. defense readiness as a result of this proposed sale.

Transmittal No. 23-86

Notice of Proposed Issuance of Letter of Offer Pursuant to Section 36(b)(1) of the Arms Export Control Act

Annex

Item No. vii

(vii) Sensitivity of Technology:

1. The AN/PRC-117G delivers breakthrough wideband data speed and legacy narrowband performance. Equipped with MUOS-ready hardware, this manpack is 30% smaller and 35% lighter than any other currently available. The AN/PRC-117G is also the industry's first and only tactical radio with NINE Suite B encryption, allowing for secure interoperability with the United States, NATO, and regional tactical partners.

2. The Falcon III AN/PRC-152A delivers simultaneous voice and high-speed data, seamlessly connecting dismount and upper-echelon networks. Even in challenging environments, the AN/PRC-152A provides voice, data, imagery, and video, giving warfighters critical mission intelligence for enhanced decision-making.

3. The Falcon IV AN/PRC-158 delivers dual-channel connectivity across the full 30-2500 MHz frequency range. Compact and lightweight, the MCMP provides forward-deployed warfighters with an unrivaled level of tactical communications flexibility. Equipped with a Software Communications Architecture (SCA) and a broad portfolio of narrowband and wideband waveforms, the AN/PRC-158 ensures advanced interoperability and fast in-field updates for new capabilities. The manpack's two channels and superior routing and crossbanding technologies support communications redundancy and sharing critical voice and data intelligence, surveillance, and reconnaissance (ISR) with a variety of nets and sub nets.

4. The Falcon III AN/PRC-160(V) is the smallest, lightest, and fastest Type 1-certified high frequency (HF) manpack available today. Engineered for advanced security and performance, the Wideband HF/VHF Tactical Radio System features industry-leading encryption and breakthrough data performance and interoperability.

5. The AN/PRC-163 Multi-channel Handheld Radio is a versatile, secure solution that leverages crossbanding to provide simultaneous data & voice across SATCOM, Line-of-Sight, and Mobile Ad-hoc Networking (MANET) modes. As mission needs evolve, this software-defined handheld supports fast, in-field updates to new capabilities. An external mission module hardware interface allows warfighters to quickly add options including ISR video and SATCOM.

6. The AN/PRC-167 harnesses the power of multiple tactical devices converged into a single manpack. The radio provides superior communications range extension, delivering real-time situational awareness updates up and down levels of command. Engineered to meet multi-domain challenges of any combination of ground, vehicular, and airborne missions, the manpack simultaneously and independently runs the full frequency range of a broad portfolio of waveforms on each of two channels. As mission needs evolve, this software-defined manpack supports fast, in-field capability updates.

7. The highest level of classification of defense articles, components, and services included in this potential sale is SECRET.

8. If a technologically advanced adversary were to obtain knowledge of the specific hardware and software elements, the information could be used to develop countermeasures that might reduce weapon system effectiveness or be used in the development of a system with similar or advanced capabilities.

9. A determination has been made that Poland can provide substantially the same degree of protection for the sensitive technology being released as the U.S. Government. This sale is necessary in furtherance of the U.S. foreign policy and national security objectives outlined in the Policy Justification.

10. All defense articles and services listed in this transmittal have been authorized for release and export to Poland.

[FR Doc. 2024-29498 Filed 12-13-24; 8:45 am]

BILLING CODE 6001-FR-P